DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the following locations: San Francisco, CA; Rochester, NY; Michigan City, IN; Chicago, IL; and Minneapolis, MN. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before January 24, 2014.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. For example, this notice does not extend the limitation on claims announced for earlier decisions on the Central Corridor Light Rail Transit project. The projects and actions that are the subject of this notice are:

1. Project name and location: Mission Bay Transit Loop Project, San Francisco, CA. Project sponsor: San Francisco Municipal Transportation Agency (SFMTA). Project description: The Mission Bay Transit Loop Project would provide turn-around capabilities for the T-Third Street light rail line via a connection of trackway from Third Street to 18th, Illinois, and 19th Streets to facilitate an increase in frequency of transit service in the Chinatown, Mission Bay, and South of Market neighborhoods. The increase in service would be achieved by allowing up to half of the trains traveling on Third Street via the Central Subway to turn around during peak hours at the Mission Bay Transit Loop and proceed back toward downtown San Francisco to Stockton and Washington Streets. Final agency actions: No use determination of Section 4(f) resources; Section 106 finding of no adverse effect; project-level air quality conformity; and Finding of No Significant Impact (FONSI), dated July 30, 2013. Supporting documentation: Environmental Assessment, dated May 2013.

2. Project name and location: Rochester Genesee Regional Transit Authority Campus Improvement Project, Rochester, NY. Project sponsor: Rochester Genesee Regional Transit Authority (RGRTA). Project description: The proposed project will renovate and expand the operations building; construct a new maintenance warehouse building, new bus parking, a new service building, new employee parking; and includes other site improvements. Final agency actions: a Section 106 Programmatic Agreement, dated July 25, 2013, and Finding of No Significant Impact (FONSI), dated July 25, 2013. Supporting documentation: Environmental Assessment, dated March 2013.

3. Project name and location: Replacement of NICTD Bridge 31.79 Over Trail Creek, City of Michigan City, LaPorte County, IN. Project sponsor: Northern Indiana Commuter Transportation District (NICTD). Project description: The proposed project will replace NICTD Bridge 31.79 over Trail Creek in Michigan City by assembling a replacement bridge adjacent to the current bridge. During a scheduled 14-day service outage (September 3-17, 2013), the existing bridge will be removed and the new bridge will be rolled into position and rail traffic will be restored. Final agency actions: No use determination of Section 4(f) resources; Section 106 finding of no adverse effect; project-level air quality conformity; and Finding of No Significant Impact (FONSI), dated July 15, 2013. Supporting documentation: Environmental Assessment, dated June 2013.

4. Project name and location: 95th Street Terminal Improvement Project, City of Chicago, IL. Project sponsor: Chicago Transit Authority (CTA). Project description: The proposed project will rehabilitate the existing terminal on the north side of 95th Street and would allow the existing terminal to be expanded to create new entrances directly on 95th Street. A new terminal on the south side of 95th Street would also be constructed to accommodate additional buses and provide a second station house. A pedestrian bridge above 95th Street would provide a connection for pedestrians to cross between each station house. Final agency actions: Finding of No Significant Impact (FONSI), dated April 19, 2013, and Amended FONSI, dated July 17, 2013. Supporting documentation: Environmental Assessment, dated February 8, 2013; Additional Traffic and Air Quality Analysis Technical Memorandum, dated June 18, 2013; and supporting documentation submitted by the CTA for the 95th Street Terminal Improvement Project.

5. Project name and location: Central Corridor Light Rail Transit Project, City of Minneapolis, MN. Project sponsor: Metropolitan Council. Project description: The proposed project includes 10.9 miles of fixed guideway, including 9.7 miles of new guideway and 1.2 miles of shared guideway with the existing Hiawatha (Blue Line) LRT. There will be 23 stations along the line, including five shared stations with the Blue Line LRT. The proposed project will provide a transit connection from downtown Minneapolis to downtown St. Paul, via the University of Minnesota and State Capitol complex in the City of St. Paul. Final agency actions: Amended Record of Decision (ROD), dated August 13, 2013. Supporting documentation: Central Corridor Light Rail Transit Project Final Environmental Impact Statement and Section 4(f) Evaluation, dated June 18, 2009, and Central Corridor Light Rail Transit Supplemental Final Environmental Impact Statement Construction Related Potential Impacts on Business Revenue, dated May 24, 2013.

Lucy Garliauskas,
Associate Administrator Planning and Environment.

[FR Doc. 2013-20843 Filed 8-26-13; 8:45 am]

BILLING CODE 4910-57-P